ENVIRONMENTAL PROTECTION AGENCY

40 CFR Part 261

[EPA-R05-RCRA-2010-0758; FRL-9201-2]

Hazardous Waste Management System; Identification and Listing of Hazardous Waste Amendment

AGENCY: Environmental Protection Agency (EPA).

ACTION: Final rule; amendment.

SUMMARY: The EPA (also, “the Agency” or “we”) is amending the exclusion for the American Steel Cord facility in Scottsburg, Indiana to reflect changes in ownership and name.

DATES: This amendment is effective on September 22, 2010.

FOR FURTHER INFORMATION CONTACT: Todd Ramaly, Land and Chemicals Division, Region 5, Mail Code LR-8J, Environmental Protection Agency, 77 W. Jackson Blvd., Chicago, Illinois 60604; telephone number: (312) 353-9317; fax number: (312) 582-5190; e-mail address: ramaly.todd@epa.gov.

SUPPLEMENTARY INFORMATION:

I. General Information

A. Does this action apply to me?

In this document EPA is amending appendix IX to part 261 to reflect a change in the status of a particular exclusion and, as such, will apply to a single facility.

B. How can I get copies of related information?

EPA has established a docket for this action under Docket ID No. EPA-R05-2010-0758. Publicly available docket materials are available either electronically through http://www.regulations.gov or in hard copy at the Records Center, 7th floor, U.S. EPA Region 5, 77 West Jackson Blvd., Chicago, Illinois 60604. This facility is open from 8:30 a.m. to 4 p.m., Monday through Friday, excluding legal holidays. We recommend you telephone Todd Ramaly at (312) 353-9317 before visiting the Region 5 office. The public may copy material from the regulatory docket at $0.15 per page.

C. Why is EPA taking this action?

The petition process under Title 40 Code of Federal Regulations (40 CFR) 260.20 and 260.22 allows facilities to demonstrate that a specific waste from a particular generating facility should not be regulated as a hazardous waste. Based on waste-specific information provided by the petitioner, EPA granted an exclusion for up to 3,000 cubic yards of F006, wastewater treatment sludges from electroplating operations, annually to American Steel Cord, Scottsburg (64 FR 3869, January 26, 1999).

On April 22, 2010, the Agency was notified that ownership of the Scottsburg facility had been transferred to Tokusen U.S.A., Inc. Scottsburg <JFS America> (Tokusen). Tokusen certified it will meet all terms and conditions set forth in the delisting and will not change the characteristics of the waste at the Scottsburg facility without prior Agency approval. This notice documents the change by updating appendix IX to incorporate a change in name.

There are also a number of minor typographical errors identified in the existing exclusion that will be fixed by this amendment. The sentences containing the list of verification constituents in condition 1 of the exclusion are combined with a colon and the list of allowable concentrations with semicolons. The constituent “benzo butyl phthlate” is corrected to “benzylbutylphthalate”. A zero is added before the decimal for concentrations that are less than 1. The description of the waste is corrected from “wastewater treatment plant (WWTP) sludge” to “wastewater treatment sludges” (description based on the listing). Confusing timing language in condition 4(d) of the exclusion is corrected from “* * * (if no information is presented under paragraph (c) the initial receipt of information described in paragraph (a) * * *” to “* * * if no information is presented under paragraph (c) * * *”

These changes to appendix IX of part 261 are effective September 22, 2010. The Hazardous and Solid Waste Amendments of 1984 amended section 3010 of the Resource Conservation and Recovery Act (RCRA) to allow rules to become effective in less than six months when the regulated community does not need the six-month period to come into compliance. As described above, the facility has certified that it is prepared to comply. Therefore, a six-month delay in the effective date is not necessary in this case. This provides the basis for making this amendment effective immediately upon publication under the Administrative Procedures Act pursuant to 5 United States Code (U.S.C.) 5531(d).

List of Subjects in 40 CFR Part 261

Environmental protection, Hazardous waste, Recycling, and Reporting and recordkeeping requirements.

Authority: Sec. 3001(f) RCRA, 42 U.S.C. 6921(f).

Dated: September 14, 2010.
Bruce F. Sypniewski,
Acting Director, Land and Chemicals Division.

For the reasons set out in the preamble, 40 CFR part 261 is amended as follows:

PART 261—IDENTIFICATION AND LISTING OF HAZARDOUS WASTE

1. The authority citation for part 261 continues to read as follows:

Authority: 42 U.S.C. 6905, 6912(a), 6921, 6922, and 6938.

2. Table 1 of Appendix IX of part 261 is amended by removing the “American Steel Cord” entry and adding a new entry “Tokusen U.S.A., Inc. Scottsburg <JFS America> (formerly American Steel Cord)” in alphabetical order by facility to read as follows:

Appendix IX to Part 261—Wastes Excluded Under §§ 260.20 and 260.22

Table 1—Wastes Excluded From Specific Sources
Facility | Address | Waste description
* * * * * * *
Tokusen U.S.A., Inc. Scottsburg <JFS America> (formerly American Steel Cord) | Scottsburg, Indiana | Wastewater treatment sludges from electroplating operations (EPA Hazardous Waste No. F006) generated at a maximum annual rate of 3,000 cubic yards per year, after January 26, 1999, and disposed of in a Subtitle D landfill.
|  | 1. Verification Testing: Tokusen U.S.A., Inc. Scottsburg JFS America (Tokusen) must implement an annual testing program to demonstrate, based on the analysis of a minimum of four representative samples, that the constituent concentrations measured in the TCLP extract of the waste are within specific levels. The constituent concentrations must not exceed the following levels (mg/l) which are back-calculated from the delisting health-based levels and a DAF of 68: arsenic-3.4; barium-100; cadmium-0.34; chromium-5; copper-88.4; lead-1.02; mercury-0.136; nickel-6.8; selenium-1; silver-5; zinc-680; cyanide-13.6; acetone-272; benzylbutylphthalate-476; chloroform-0.68; 1,4-dichlorobenzene-0.272; cis-1,2-dichloroethene-27.2; methylene chloride-0.34; naphthalene-68; styrene-6.8; tetrachloroethene-0.34; toluene-68; and xylene-680. Tokusen must measure and record the pH of the waste using SW 846 method 9045 and must record all pH measurements performed in accordance with the TCLP.
|  | 2. Changes in Operating Conditions: If Tokusen significantly changes the manufacturing or treatment process or the chemicals used in the manufacturing or treatment process, Tokusen may handle the wastewater sludges generated from the new process under this exclusion only after the facility has demonstrated that the waste meets the levels set forth in paragraph 1 and that no new hazardous constituents listed in Appendix VIII of Part 261 have been introduced.
|  | 3. Data Submittals: The data obtained through annual verification testing or compliance with paragraph 2 must be submitted to U.S. EPA Region 5, 77 W. Jackson Blvd., Chicago, IL 60604-3590, within 60 days of sampling. Records of operating conditions and analytical data must be compiled, summarized, and maintained on site for a minimum of five years and must be made available for inspection. All data must be accompanied by a signed copy of the certification statement in § 260.22(i)(12) of this chapter.
|  | 4. (a) If, anytime after disposal of the delisted waste, Tokusen possesses or is otherwise made aware of any environmental data (including but not limited to leachate data or groundwater monitoring data) or any other data relevant to the delisted waste indicating that any constituent identified in Condition (1) is at a level in the leachate higher than the delisting level established in Condition (1), or is at a level in the ground water or soil higher than the health based level, then Tokusen must report such data, in writing, to the Regional Administrator within 10 days of first possessing or being made aware of that data.
|  | (b) Based on the information described in paragraph 4. (a) and any other information received from any source, the Regional Administrator will make a preliminary determination as to whether the reported information requires Agency action to protect human health or the environment. Further action may include suspending, or revoking the exclusion, or other appropriate response necessary to protect human health and the environment.
|  | (c) If the Regional Administrator determines that the reported information does require Agency action, the Regional Administrator will notify the facility in writing of the actions the Regional Administrator believes are necessary to protect human health and the environment. The notice shall include a statement of the proposed action and a statement providing the facility with an opportunity to present information as to why the proposed Agency action is not necessary or to suggest an alternative action. The facility shall have 10 days from the date of the Regional Administrator's notice to present such information.
|  | (d) Following the receipt of information from the facility described in paragraph 4. (c) or if no information is presented under paragraph 4. (c) the Regional Administrator will issue a final written determination describing the Agency actions that are necessary to protect human health or the environment. Any required action described in the Regional Administrator's determination shall become effective immediately, unless the Regional Administrator provides otherwise.
* * * * * * *

[FR Doc. 2010-23693 Filed 9-21-10; 8:45 am]

BILLING CODE 6560-50-P